DEPARTMENT OF ENERGY

Federal Energy Regulatory Commission

Combined Notice of Filings #1

Take notice that the Commission received the following electric corporate filings:

Docket Numbers: EC15-12-000.

Applicants: Catalina Solar 2, LLC.

Description: Application of Catalina Solar 2, LLC for Authorization under Section 203 of the Federal Power Act and Requests for Waivers, Confidential Treatment and Expedited Consideration.

Filed Date: 10/17/14.

Accession Number: 20141017-5179.

Comments Due: 5 p.m. ET 11/7/14.

Take notice that the Commission received the following electric rate filings:

Docket Numbers: ER14-2575-001.

Applicants: Pacific Gas and Electric Company.

Description: Compliance filing per 35: Order No. 792 Second Compliance Filing—WDT GIP Amendment to be effective 10/1/2014.

Filed Date: 10/20/14.

Accession Number: 20141020-5001.

Comments Due: 5 p.m. ET 11/10/14.

Docket Numbers: ER11-2777-003.

Applicants: Midcontinent Independent System Operator, Inc., Ameren Illinois Company.

Description: Compliance filing per 35: 2014-10-20_Ameren WDS Compliance Filing to be effective 3/30/2011.

Filed Date: 10/20/14.

Accession Number: 20141020-5100.

Comments Due: 5 p.m. ET 11/10/14.

Docket Numbers: ER15-119-001.

Applicants: Midcontinent Independent System Operator, Inc.

Description: Tariff Amendment per 35.17(b): 2014-10-16_SA 2219 ATC—METC Amended Transmission IA to be effective 10/17/2014.

Filed Date: 10/16/14.

Accession Number: 20141016-5147.

Comments Due: 5 p.m. ET 11/6/14.

Docket Numbers: ER15-128-000.

Applicants: Florida Power & Light Company.

Description: § 205(d) rate filing per 35.13(a)(2)(iii): FPL New Delivery Point for Transmission Service Agreement No. 162 to be effective 11/1/2014.

Filed Date: 10/17/14.

Accession Number: 20141017-5158.

Comments Due: 5 p.m. ET 11/7/14.

Docket Numbers: ER15-128-001.

Applicants: Florida Power & Light Company.

Description: Tariff Amendment per 35.17(b): Amendment to FPL New Delivery Point for Transmission Service Agreement No. 162 to be effective 11/1/2014.

Filed Date: 10/17/14.

Accession Number: 20141017-5164.

Comments Due: 5 p.m. ET 11/7/14.

Docket Numbers: ER15-129-000.

Applicants: California Independent System Operator Corporation.

Description: § 205(d) rate filing per 35.13(a)(2)(iii): 2014-10-17_InterconnectionProcessEnhancements13-14 to be effective 12/19/2014.

Filed Date: 10/17/14.

Accession Number: 20141017-5161.

Comments Due: 5 p.m. ET 11/7/14.

Docket Numbers: ER15-130-000.

Applicants: Duke Energy Florida, Inc.

Description: § 205(d) rate filing per 35.13(a)(2)(iii): SECI NITSA SA 143 (Delivery Point change) to be effective 11/17/2014.

Filed Date: 10/20/14.

Accession Number: 20141020-5057.

Comments Due: 5 p.m. ET 11/10/14.

Docket Numbers: ER15-131-000.

Applicants: Citizens Sunrise Transmission LLC.

Description: § 205(d) rate filing per 35.13(a)(2)(iii): Citizens Sunrise Transmission LLC to be effective 1/1/2015.

Filed Date: 10/20/14.

Accession Number: 20141020-5132.

Comments Due: 5 p.m. ET 11/10/14.

Docket Numbers: ER15-132-000.

Applicants: BETM Solutions LLC.

Description: Tariff Withdrawal per 35.15: Notice of Cancellation to be effective 10/21/2014.

Filed Date: 10/20/14.

Accession Number: 20141020-5142.

Comments Due: 5 p.m. ET 11/10/14.

Docket Numbers: ER15-133-000.

Applicants: Midcontinent Independent System Operator, Inc.

Description: Compliance filing per 35: 2014-10-20_Order 890 Planning Process Compliance Filing to be effective 7/28/2010.

Filed Date: 10/20/14.

Accession Number: 20141020-5152.

Comments Due: 5 p.m. ET 11/10/14.

Docket Numbers: ER15-134-000.

Applicants: PJM Interconnection, L.L.C.

Description: § 205(d) rate filing per 35.13(a)(2)(iii): Revisions to RAA Article 1 and Schedule 8 re PLC and NSPL to be effective 1/1/2015.

Filed Date: 10/20/14.

Accession Number: 20141020-5154.

Comments Due: 5 p.m. ET 11/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2014.
Nathaniel J. Davis, Sr.,
Deputy Secretary.

[FR Doc. 2014-25704 Filed 10-28-14; 8:45 am]

BILLING CODE 6717-01-P